DEPARTMENT OF THE TREASURY

Submission for OMB Review; Comment Request

June 12, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 20, 2001 to be assured of consideration.

U.S. Customs Service (CUS)

OMB Number: 1515-0206.

Form Number: None.

Type of Review: Extension.

Title: Voluntary Customer Information Surveys in Support of Executive Order 12862.

Description: These voluntary customer surveys are used to implement E.O. 12862 by obtaining quantitative customer data for the purpose of evaluating customer satisfaction.

Respondents: Business or other for-profit, Individuals or households, Not-for-profit institutions.

Estimated Number of Respondents: 6,500.

Estimated Burden Hours Per Respondent: 25 minutes.

Frequency of Response: On occasion.

Estimated Total Reporting Burden: 2,750 hours.

Clearance Officer: J. Edgar Nichols (202) 927-1426 or, Tracey Denning (202) 927-1429,U.S. Customs Service,Information Services Branch,Ronald Reagan Building, 1300 Pennsylvania Avenue, NW.,Room 3.2.C,Washington, DC 20229.

OMB Reviewer: Alexander T. Hunt (202) 395-7860,Office of Management and Budget,Room 10202, New Executive Office Building,Washington, DC 20503.

Lois K. Holland,
Departmental Reports Management Officer.

[FR Doc. 01-15533 Filed 6-19-01; 8:45 am]

BILLING CODE 4820-02-P